DEPARTMENT OF HOMELAND SECURITY

Federal Emergency Management Agency

[Docket ID FEMA-2018-0002; Internal Agency Docket No. FEMA-B-1805]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR). The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Dated: January 25, 2018.
Roy E. Wright,
Deputy Associate Administrator for Insurance and Mitigation, Department of Homeland Security, Federal Emergency Management Agency.

State and county | Location and case No. | Chief executive officer of community | Community map repository | Online location of letter of map revision | Date of modification | Community No.
Arizona:
Maricopa | City of Goodyear (17-09-1851P) | The Honorable Georgia Lord, Mayor, City of Goodyear, 190 North Litchfield Road, Goodyear, AZ 85338 | Engineering Department, 14455 West Van Buren Street, Goodyear, AZ 85338 | https://msc.fema.gov/portal/advanceSearch | May 4, 2018 | 040046
Maricopa | Unincorporated Areas of Maricopa County (17-09-1851P) | The Honorable Denny Barney, Chairman, Board of Supervisors, Maricopa County, 301 West Jefferson Street, 10th Floor, Phoenix, AZ 85003 | Flood Control District of Maricopa County, 2801 West Durango Street, Phoenix, AZ 85009 | https://msc.fema.gov/portal/advanceSearch | May 4, 2018 | 040037
California:
Alameda | Unincorporated Areas of Alameda County (17-09-2355P) | The Honorable Wilma Chan, President, Board of Supervisors, Alameda County, 1221 Oak Street, Suite 536, Oakland, CA 94612 | Alameda County Public Works Agency, 399 Elmhurst Street, Hayward, CA 94544 | https://msc.fema.gov/portal/advanceSearch | May 7, 2018 | 060001
Ventura | City of Simi Valley (17-09-2603P) | The Honorable Bob Huber, Mayor, City of Simi Valley, 2929 Tapo Canyon Road, Simi Valley, CA 93063 | City Hall, 2929 Tapo Canyon Road, Simi Valley, CA 93063 | https://msc.fema.gov/portal/advanceSearch | Apr. 30, 2018 | 060421
Hawaii:
Hawaii | Hawaii County (17-09-1339P) | The Honorable Harry Kim, Mayor, County of Hawaii, 25 Aupuni Street, Hilo, HI 96720 | Department of Public Works, 101 Pauahi Street, Suite 7, Hilo, HI 96720 | https://msc.fema.gov/portal/advanceSearch | Apr. 12, 2018 | 155166
Honolulu | City and County of Honolulu (17-09-2310P) | The Honorable Kirk Caldwell, Mayor, City and County of Honolulu, 530 South King Street, Room 306, Honolulu, HI 96813 | Department of Planning and Permitting, 650 South King Street, Honolulu, HI 96813 | https://msc.fema.gov/portal/advanceSearch | Apr. 26, 2018 | 150001
Idaho: Ada | Unincorporated Areas of Ada County (17-10-1683P) | The Honorable David L. Case, Chairman, Ada County Board of Commissioners, 200 West Front Street, 3rd Floor, Boise, ID 83702 | Ada County Courthouse, 200 West Front Street, Boise, ID 83702 | https://msc.fema.gov/portal/advanceSearch | Apr. 20, 2018 | 160001
Illinois:
Adams | City of Quincy (17-05-2795P) | The Honorable Kyle A. Moore, Mayor, City of Quincy, 730 Maine Street, Quincy, IL 62301 | City Hall, 730 Maine Street, Quincy, IL 62301 | https://msc.fema.gov/portal/advanceSearch | Apr. 19, 2018 | 170003
Adams | Unincorporated Areas of Adams County (17-05-2795P) | The Honorable Les Post, Chairman, Adams County Board, Adams County Courthouse, 101 North 54th Street, Quincy, IL 62305 | Adams County Courthouse, 101 North 54th Street, Quincy, IL 62305 | https://msc.fema.gov/portal/advanceSearch | Apr. 19, 2018 | 170001
Indiana:
Bartholomew | City of Columbus (17-05-4165P) | The Honorable James D. Lienhoop, Mayor, City of Columbus, City Hall, 123 Washington Street, Columbus, IN 47201 | Bartholomew County Planning Department, 123 Washington Street, Suite B, Columbus, IN 47201 | https://msc.fema.gov/portal/advanceSearch | Apr. 17, 2018 | 180007
Bartholomew | Unincorporated Areas of Bartholomew County (17-05-4165P) | Mr. Carl Lienhoop, Chairman, Bartholomew County Commissioners, 440 3rd Street, Columbus, IN 47201 | Bartholomew County Planning Department, 123 Washington Street, Suite B, Columbus, IN 47201 | https://msc.fema.gov/portal/advanceSearch | Apr. 17, 2018 | 180006
Oregon:
Marion | City of Salem (17-10-1190P) | The Honorable M. Chuck Bennett, Mayor, City of Salem, 555 Liberty Street, Southeast, Room 220, Salem, OR 97301 | Public Works Department, 555 Liberty Street, Southeast, Room 325, Salem, OR 97301 | https://msc.fema.gov/portal/advanceSearch | Apr. 11, 2018 | 410167
Marion | City of Salem (17-10-1368P) | The Honorable M. Chuck Bennett, Mayor, City of Salem, 555 Liberty Street, Southeast, Room 220, Salem, OR 97301 | Public Works Department, 555 Liberty Street, Southeast, Room 325, Salem, OR 97301 | https://msc.fema.gov/portal/advanceSearch | Mar. 29, 2018 | 410167
Marion | City of Turner (17-10-1190P) | The Honorable Gary Tiffin, Mayor, City of Turner, 5255 Chicago Street, Southeast Turner, OR 97392 | City Hall, 7250 3rd Street, Southeast Turner, OR 97392 | https://msc.fema.gov/portal/advanceSearch | Apr. 11, 2018 | 410171
Marion | Unincorporated Areas of Marion County (17-10-1190P) | Mr. Sam Brentano, Commissioner, Marion County, 555 Court Street, Northeast, Suite 5232, Salem, OR 97309 | Department of Planning, 3150 Lancaster Drive, Northeast Salem, OR 97305 | https://msc.fema.gov/portal/advanceSearch | Apr. 11, 2018 | 410154

[FR Doc. 2018-03074 Filed 2-13-18; 8:45 am]

BILLING CODE 9110-12-P